DEPARTMENT OF ENERGY

Federal Energy Regulatory Commission

Combined Notice of Filings

Take notice that the Commission has received the following Natural Gas Pipeline Rate and Refund Report filings:

Docket Number: PR20-52-000.

Applicants: ETC Katy Pipeline, Ltd.

Description: submits tariff filing per 284.123(b)(1)+(g): Certification of Unchanged State Rate Election of ETC Katy Pipeline, LLC to be effective 4/1/2020.

Filed Date: 4/17/2020.

Accession Number: 202004175191.

Comments Due: 5 p.m. ET 5/8/2020.

284.123(g) Protests Due: 5 p.m. ET 6/16/2020.

Docket Number: PR20-53-000.

Applicants: Southcross CCNG Transmission Ltd.

Description: Tariff filing per 284.123(b),(e)/: Rate Election and Amended Statement of Operating Conditions to be effective 4/20/2020.

Filed Date: 4/20/2020.

Accession Number: 202004205043.

Comments/Protests Due: 5 p.m. ET 5/11/2020.

Docket Number: PR20-47-001.

Applicants: Public Service Company of Colorado.

Description: Tariff filing per 284.123(b),(e)+(g): Amended SOR and SOC 4.30.2020 to be effective 3/1/2020.

Filed Date: 4/22/2020.

Accession Number: 202004225205.

Comments Due: 5 p.m. ET 5/13/2020.

284.123(g) Protests Due: 5 p.m. ET 5/26/2020.

Docket Numbers: RP20-797-000.

Applicants: Transcontinental Gas Pipe Line Company, LLC.

Description: § 4(d) Rate Filing: Remove X-234 References to be effective 5/23/2020.

Filed Date: 4/22/20.

Accession Number: 20200422-5002.

Comments Due: 5 p.m. ET 5/4/20.

Docket Numbers: RP20-798-000.

Applicants: Midcontinent Express Pipeline LLC.

Description: § 4(d) Rate Filing: Removal of Expiring Total Agreement to be effective 6/1/2020.

Filed Date: 4/22/20.

Accession Number: 20200422-5013.

Comments Due: 5 p.m. ET 5/4/20.

Docket Numbers: RP20-799-000.

Applicants: Texas Eastern Transmission, LP.

Description: Compliance filing TETLP OFO April 2020 Penalty Disbursement Report.

Filed Date: 4/22/20.

Accession Number: 20200422-5019.

Comments Due: 5 p.m. ET 5/4/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 23, 2020.
Nathaniel J. Davis, Sr.,
Deputy Secretary.

[FR Doc. 2020-09092 Filed 4-28-20; 8:45 am]

BILLING CODE 6717-01-P